DEPARTMENT OF TRANSPORTATION

Federal Railroad Administration

[Docket Number FRA-2015-0021]

Petition for Waiver of Compliance

In accordance with Part 211 of Title 49 of the Code of Federal Regulations (CFR), this document provides the public notice that by a document dated November 20, 2014, the Transportation Technology Center (TTCI) has petitioned the Federal Railroad Administration (FRA) for a waiver of compliance from certain provisions of the Federal railroad safety regulations contained at 49 CFR 231.136(c)(4) and 231.126(c)(4). FRA assigned the petition Docket Number FRA-2015-0021.

Industry efforts are underway to develop industry standards for natural gas fuel tenders (NGFT) as fuel sources for locomotives. FRA has provided funding for a program to complement work conducted by the Association of American Railroads (AAR) NGFT Technical Advisory Group (TAG) in developing industry standards for NGFT tenders. This effort is focused on documenting (measuring and analyzing) the worst-case displacement environment between a common line-haul locomotive and a trailing vehicle (simulating a fuel tender).

This petition for a temporary waiver has been filed so that a test project can be conducted to measure and an understanding can be had of the tri-axial displacement environment of interconnections (e.g., gas, cooling system loop, electrical, air, etc.) between the locomotive and adjacent tender vehicle during normal full-scale freight train operations in revenue service. This waiver also serves to give notice that the instrumentation brackets will be mounted to and partially obstruct the safety appliances on the locomotive and box car. The safety appliances affected will be the A-end end platform and the A-end handhold on the box car, and, in addition, a test fixture bracket will be attached to the uprights that secure horizontal handholds on the rear end of the locomotive. The test program outlined in the petition includes measurement of relative longitudinal, lateral, and vertical displacements and accelerations between the locomotive and simulated fuel tender. Data gathered will provide input for testing future fuel transfer components (e.g., hoses, wires, and connectors for gas/heat exchange fluids/electrical power/control) planned for use on the next generation of NGFT vehicles.

Canadian National Railway (CN) is supplying the locomotive and high-cube box car for this testing. The locomotive's long hood end will be connected to and leading the box car's A-end. The intent is for both to be used throughout the testing from Chicago, IL, to Memphis, TN, and back. The requested duration of the waiver is to allow the testing from Chicago, IL, to Memphis, TN, and back to be completed. A copy of the petition, as well as any written communications concerning the petition, is available for review online at www.regulations.gov and in person at the U.S. Department of Transportation's (DOT) Docket Operations Facility, 1200 New Jersey Avenue SE., W12-140, Washington, DC, 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2015-0021) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received within 45 days of the date of this notice will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov or interested parties may review DOT's complete Privacy Act Statement in the Federal Register published on April 11, 2000 (65 FR 19477).

Issued in Washington, DC, on March 24, 2015.
Ron Hynes,
Director, Office of Technical Oversight.

[FR Doc. 2015-07102 Filed 3-27-15; 8:45 am]

BILLING CODE 4910-06-P